DEPARTMENT OF COMMERCE

National Telecommunications and Information Administration

Broadband Grant Programs Webinar Series

AGENCY: National Telecommunications and Information Administration, U.S. Department of Commerce.

ACTION: Notice of open meetings.

SUMMARY: The National Telecommunications and Information Administration (NTIA) will host webinars in connection with the three new broadband grant programs authorized and funded by the Consolidated Appropriations Act, 2021: The Broadband Infrastructure Program, the Tribal Broadband Connectivity Program, and the Connecting Minority Communities Pilot Program. The webinars are designed to help prospective applicants understand the grant programs and to assist applicants to prepare high quality grant applications.

DATES: NTIA will offer webinars on the following dates:

1. Broadband Infrastructure Program:

○ August 4 & 5 at 2:30 p.m. Eastern Daylight Time (EDT)

2. Tribal Broadband Connectivity Program:

○ August 11 & 12 at 2:30 p.m. EDT

○ August 23 & 24 at 2:30 p.m. EDT

3. Connecting Minority Communities Pilot Program:

○ August 18 & 19 at 2:30 p.m. EDT

○ September 22 & 23 at 2:30 EDT

○ October 20 & 21 at 2:30 EDT

ADDRESSES: These are virtual meetings. NTIA will post the registration information on its BroadbandUSA website, https://broadbandusa.ntia.doc.gov, under Events.

FOR FURTHER INFORMATION CONTACT: Maci Morin, National Telecommunications and Information Administration, U.S. Department of Commerce, Room 4872, 1401 Constitution Avenue NW, Washington, DC 20230; telephone: (202) 482-4884; email: BroadbandUSAwebinars@ntia.gov. Please direct media inquiries to NTIA's Office of Public Affairs, (202) 482-7002; email press@ntia.gov.

SUPPLEMENTARY INFORMATION: Division N, Title IX—Broadband internet Access Service, of the Consolidated Appropriations Act, 2021 (Pub. L. 116-260) authorized and funded three new broadband grant programs to be administered by NTIA: The Broadband Infrastructure Program, the Tribal Broadband Connectivity Program, and the Connecting Minority Community Pilot Program. On March 19, 2021, NTIA published a Notice in the Federal Register announcing a webinar series designed to help prospective applicants understand the grant programs and to assist applicants to prepare high quality grant applications. See NTIA, Notice of Open Meetings—NTIA Broadband Grant Programs Webinars, 86 FR 14882 (March 19, 2021); NTIA, Notice of Change to Schedule for Open Meetings—NTIA Broadband Grant Programs Webinars, 86 FR 18965 (April 12, 2021). NTIA held six webinars related to these programs, with more than 2,800 participants. Participants have communicated that they found the webinars to be informative in understanding the rules associated with the programs. NTIA seeks to continue to use webinars as a means of informing potential applicants.

Details on specific webinars, their contents, and webinar registration information will be posted on the BroadbandUSA website, https://broadbandusa.ntia.doc.gov, under Events.

These webinars are subject to change. Webinar time changes will be posted on the BroadbandUSA website, https://broadbandusa.ntia.doc.gov, under Events. Any webinar cancellation will also be posted on the same website. Any date change in a scheduled webinar will be provided in a notice in the Federal Register.

The presentation and recording of each webinar will be posted on the BroadbandUSA website at https://broadbandusa.ntia.doc.gov/ and NTIA's YouTube channel at: https://www.youtube.com/ntiagov within 7 days following the live webinar.

The public is invited to participate in these webinars. The webinars are open to the public and press. Pre-registration is required as space is limited to the first 1,000 participants. NTIA asks each registrant to provide their first and last name, city, state, zip code, job title, organization and email address for registration purposes.

Individuals requiring accommodations, such as sign language interpretation or other ancillary aids, are asked to notify the NTIA contact listed above at least ten (10) business days before the meeting. General questions and comments are welcome via email to BroadbandUSAwebinars@ntia.gov.

Dated: June 30, 2021.
Kathy Smith,
Chief Counsel, National Telecommunications and Information Administration.

[FR Doc. 2021-14332 Filed 7-2-21; 8:45 am]

BILLING CODE 3510-60-P